DEPARTMENT OF HEALTH AND HUMAN SERVICES

Centers for Disease Control and Prevention

[30Day-08-0621]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

2009 and 2011 National Youth Tobacco Surveys (NYTS)—Revision—National Center for Chronic Disease Prevention and Health Promotion (NCCDPHP), Centers for Disease Control and Prevention (CDC).

Background and Brief Description

CDC requests OMB approval to conduct the National Youth Tobacco Survey (NYTS) in 2009 and 2011 (OMB No. 0920-0621; exp. date December 31, 2008). The NYTS is a school-based survey that that has been conducted in 1999, 2000, 2002, 2004, and 2006. To improve the coordination and efficiency of school-based surveillance activities within CDC, the proposed revision will establish a routine data collection schedule to occur in the Spring of odd-numbered years. Minor changes to the survey instrument and the burden estimate also are proposed.

The NYTS provides national estimates for middle and high school students of tobacco use behaviors, information about exposure to pro- and anti-tobacco influences, and information about racial and ethnic disparities in these tobacco-related behaviors and behavioral determinants. Information collected through the NYTS is used to identify trends over time, to inform the development of tobacco cessation programs for youth, and to evaluate the effectiveness of existing interventions and programs. The NYTS covers the following topics related to youth tobacco use: Use of cigarettes, smokeless tobacco, cigars, pipes, bidis, and kreteks; knowledge and attitudes; media and advertising; access to tobacco products and enforcement of restrictions on access; school curriculum; environmental tobacco smoke exposure; and cessation.

The NYTS will be conducted among nationally representative samples of students in grades 6-12 attending public and private schools. Responding students will complete a self-administered optically scannable questionnaire that includes multiple-choice questions. Information supporting the NYTS also will be collected from state-, district-, and school-level administrators and teachers. The table below reports the combined total number of respondents for the 2009 and 2011 NYTS annualized over the requested three-year OMB approval period.

There are no costs to respondents except their time. The estimated annualized burden hours are 10,213.

Estimated Annualized Burden Hours
Type of respondents | Form name | Number of respondents | Number of responses per respondent | Average burden per response (in hours)
State Administrators | State-level Recruitment Script for the NYTS | 17 | 1 | 30/60
District Administrators | District-level Recruitment Script for the NYTS | 80 | 1 | 30/60
School Administrators | School-level Recruitment Script for the NYTS | 133 | 1 | 30/60
Teachers | Data Collection Checklist for the NYTS | 635 | 1 | 15/60
Students | National Youth Tobacco Survey (NYTS) | 13,251 | 1 | 45/60

Dated: June 5, 2008.
Maryam I. Daneshvar,
Acting Reports Clearance Officer, Centers for Disease Control and Prevention.

[FR Doc. E8-13194 Filed 6-11-08; 8:45 am]

BILLING CODE 4163-18-P